DEPARTMENT OF LABOR

Occupational Safety and Health Administration

[Docket No. OSHA-2021-0010]

Federal Advisory Council on Occupational Safety and Health (FACOSH); Notice of Meeting

AGENCY: Occupational Safety and Health Administration (OSHA), Labor.

ACTION: Notice of FACOSH meeting.

SUMMARY: The Federal Advisory Committee on Occupational Safety and Health (FACOSH) will meet November 17, 2022.

DATES: FACOSH meeting: FACOSH will meet from 1 p.m.-4 p.m. ET, Thursday, November 17, 2022.

ADDRESSES:

Submission of comments and requests to speak: Submit comments and requests to speak at the FACOSH meeting by November 10, 2022, identified by the docket number for this Federal Register notice (Docket No. OSHA-2021-0010), using the following method:

Electronically: Comments and requests to speak, including attachments, must be submitted electronically at www.regulations.gov, the Federal eRulemaking Portal. Follow the online instructions for submitting comments.

Requests for special accommodations: Submit requests for special accommodations for this FACOSH meeting by November 10, 2022, to Ms. Mikki Holmes, Directorate of Enforcement Programs, OSHA, U.S. Department of Labor; telephone: (202) 693-2491; email: holmes.mikki@dol.gov.

Instructions: All submissions must include the agency name and the OSHA docket number for this Federal Register notice (Docket No. OSHA-2021-0010). OSHA will place comments and requests to speak, including personal information, in the public docket, which may be available online. Therefore, OSHA cautions interested parties about submitting personal information such as Social Security numbers and birthdates.

Docket: To read or download documents in the public docket for this FACOSH meeting, go to www.regulations.gov. All documents in the public docket are listed in the index; however, some documents (e.g., copyrighted material) are not publicly available to read or download through www.regulations.gov. All submissions, including copyrighted material, are available for inspection through the OSHA Docket Office. Contact the OSHA Docket Office at (202) 693-2350 (TTY (877) 889-5627) for assistance in locating docket submissions.

Participation in the FACOSH meeting: Members of the public may attend the FACOSH meeting. However, any participation by the public will be in listen-only mode.

FOR FURTHER INFORMATION CONTACT:

Press inquiries: Mr. Frank Meilinger, Director, OSHA Office of Communications; telephone: (202) 693-1999; email: meilinger.francis2@dol.gov.

General information: Ms. Mikki Holmes, Director, OSHA Office of Federal Agency Programs; telephone (202) 693-2122; email: ofap@dol.gov.

Copies of this Federal Register document: Electronic copies of this Federal Register document are available at http://www.regulations.gov. This document, as well as news releases and other relevant information are also available on the OSHA web page at http://www.osha.gov.

SUPPLEMENTARY INFORMATION:

I. Background

FACOSH is authorized to advise the Secretary of Labor (Secretary) on all matters relating to the occupational safety and health of Federal employees (Occupational Safety and Health Act of 1970 (29 U.S.C. 668), 5 U.S.C. 7902, Executive Orders 12196 and 14048). This includes providing advice on how to reduce and keep to a minimum the number of injuries and illnesses in the Federal workforce and how to encourage the establishment and maintenance of effective occupational safety and health programs in each Federal agency.

II. Meeting Information

FACOSH Meeting

FACOSH will meet from 1 p.m. to 4 p.m., ET, Thursday, November 17, 2022. The meeting is open to the public.

Meeting agenda: The tentative agenda for this meeting includes:

• Updates from OSHA Leadership

• OSHA's Heat NEP to prevent heat at work and conduct programmed inspections

• Federal agencies responsibilities under 29 CFR part 1960

Public attendance at the FACOSH Committee meeting will be virtual only. Meeting information will be posted in the Docket (Docket No. OSHA-2021-0010) and on the FACOSH web page, https://www.osha.gov/advisorycommittee/facosh, prior to the meeting.

Authority and Signature

James S. Frederick, Deputy Assistant Secretary of Labor for Occupational Safety and Health, directed the preparation of this notice under the authority granted by section 19 of the Occupational Safety and Health Act of 1970 (29 U.S.C. 668), 5 U.S.C. 7902, the Federal Advisory Committee Act (5 U.S.C. app. 2), Executive Order 12196 and 14048, Secretary of Labor's Order 08-2020, 29 CFR part 1960 (Basic Program Elements of for Federal Employee Occupational Safety and Health Programs), and 41 CFR part 102-3.

Signed at Washington, DC.
James S. Frederick,
Deputy Assistant Secretary of Labor for Occupational Safety and Health.

[FR Doc. 2022-22688 Filed 10-18-22; 8:45 am]

BILLING CODE 4510-26-P